ENVIRONMENTAL PROTECTION AGENCY

[OA-2003-0008; FRL-7645-5]

Agency Information Collection Activities; Submission to OMB for Review and Approval; Comment Request; National Environmental Performance Track Program (Outreach Award, Mentoring Program Registration, and Customer Satisfaction Questionnaire), EPA ICR Number 1949.04, OMB Control Number 2010-0032

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for revision of the approved collection.

This ICR describes the nature of the information collection and its estimated burden and cost. This ICR is scheduled to expire on August 31, 2006.

DATES: Additional comments may be submitted on or before May 12, 2004.

ADDRESSES: Follow the detailed instructions in SUPPLEMENTARY INFORMATION.

FOR FURTHER INFORMATION CONTACT: Lisa Grogan, Office of Policy, Economics, and Innovation, Mail Code 1808T, Environmental Protection Agency, 1200 Pennsylvania Ave., NW., Washington, DC 20460; telephone number: 202-566-2981; fax number: 202-566-0292; e-mail address: grogan.lisa@epa.gov.

SUPPLEMENTARY INFORMATION: EPA has submitted the following ICR to OMB for review and approval according to the procedures prescribed in 5 CFR 1320.12. On January 8, 2004, EPA sought comments on this ICR pursuant to 5 CFR 1320.8(d). EPA received one comment. The comment appears to have been mistakenly entered under this docket as the contents of the comment have no relevance to the subject of this ICR.

EPA has established a public docket for this ICR under Docket ID No. OA-2003-0008, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” and then key in the docket ID number identified above.

Any comments related to this ICR should be submitted to EPA and OMB within 30 days of this notice, and according to the following detailed instructions: (1) Mail your comments to OMB at: Office of Information and Regulatory Affairs, Office of Management and Budget (OMB), Attention: Desk Officer for EPA, 725 17th Street, NW., Washington, DC 20503, and (2) submit your comments to EPA online using EDOCKET (our preferred method), by e-mail to oei.docket@epa.gov or by mail to: EPA Docket Center, Environmental Protection Agency, Office of Environmental Information Docket, Mail Code 28221T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: National Environmental Performance Track Program (Outreach Award, Mentoring Program Registration, and Customer Satisfaction Questionnaire).

Abstract: EPA announced the National Environmental Performance Track Program on June 26, 2000. The program is designed to recognize and encourage facilities that consistently meet their legal requirements, that have implemented management systems to monitor and improve performance, that have voluntarily achieved environmental improvements beyond compliance, and that publicly commit to specific environmental improvements and report on progress. This ICR proposes adding the following three components to the Performance Track Program to strengthen and expand membership:

Performance Track Outreach Award

Outreach Award applications are submitted voluntarily by any facility or organization that was a member of Performance Track during the calendar year. To be considered for the award, facilities/organizations may self-nominate or may be nominated by other facilities, local or state entities, or EPA Performance Track staff. Nominating facilities will be asked to complete and submit a short nomination application containing facility and contact information, as well as asking the nominating facility to list activities performed to be considered for the Outreach Award.

Performance Track Mentoring Program Registration

Facilities seeking to participate in the Performance Track Mentoring Program will be asked to submit a short registration form that includes facility and contact information, whether the facility seeks to serve as a mentor or mentee, and what areas of the Performance Track program the facility wishes to provide/receive assistance. Mentees are matched with Performance Track sites that volunteer their time and resources to share their experiences and expertise in environmental best practices.

Performance Track Customer Satisfaction Questionnaire

The Customer Satisfaction Questionnaire will be administered on-line, to reduce the burden on respondents and encourage a high response rate. All current members, along with approximately 12 corporate level representatives of participating facilities, will receive e-mail notification with passwords to allow them access to the survey. The questionnaire will ascertain the following information: Program benefits and services that are important to members; member satisfaction with current services; potential improvements in communicating with members about the program; the level of promotion/publicity that members desire for their participation in the program; and any additional benefits and services that would increase member satisfaction. The questionnaire will serve to assess satisfaction as well as identify improvements in future years, as EPA plans to administer the survey on a biennial schedule.

An agency may not conduct or sponsor, and a person is not required to respond to, a collection of information unless it displays a currently valid OMB control number. The OMB control numbers for EPA's regulations in 40 CFR are listed in 40 CFR part 9 and are identified on the form and/or instrument, if applicable.

Burden Statement: The annualized burden for these three components of the Performance Track Program together averages a total of 1.5 hours per respondent. Burden means the total time, effort, or financial resources expended by persons to generate, maintain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

As this ICR is a revision to ICR No. 1949.02, this burden represents only the additional burden associated with this revision.

Respondents/Affected Entities: Members of EPA's National Environmental Performance Track Program.

Estimated Number of Respondents: 331.

Frequency of Response: On occasion for the Mentoring Program Registration; annually for the Outreach Award Application; biennially for the Customer Satisfaction Questionnaire.

Estimated Total Annual Hour Burden: 216 hours.

Estimated Total Annual Cost: $16,153 for respondents' labor costs. There are no capital or operations and maintenance costs.

Change in Estimates: This ICR represents an increase of 216 burden hours per year as it is a request for a revision.

Dated: April 1, 2004.
Oscar Morales,
Director, Collection Strategies Division.

[FR Doc. 04-8229 Filed 4-9-04; 8:45 am]

BILLING CODE 6560-50-P